DEPARTMENT OF THE INTERIOR

National Park Service

[NPS-WASO-NRSS-BRD-SSB-NPS0027380; PPWONRADB0 PPMRSNR1Y.NM00000 199; OMB Control Number 1024-0265]

Agency Information Collection Activities; NPS Institutional Animal Care and Use Committee (IACUC) General Submission, Exhibitor, Annual Review, and Amendment Forms

AGENCY: National Park Service, Interior.

ACTION: Notice of information collection; request for comment.

SUMMARY: In accordance with the Paperwork Reduction Act of 1995, we, the National Park Service (NPS) are proposing to renew an information collection with revisions.

DATES: Interested persons are invited to submit comments on or before July 15, 2019.

ADDRESSES: Send your comments on this information collection request (ICR) by mail to Phadrea Ponds, Acting, NPS Information Collection Clearance Officer, 1201 Oakridge Drive, Fort Collins, CO 80525; or by email at phadrea_ponds@nps.gov; or by telephone at 970-267-7231. Please reference OMB Control Number 1024-0265 in the subject line of your comments.

FOR FURTHER INFORMATION CONTACT: To request additional information about this ICR, contact Aaron Smith, NPS IACUC Administrator by mail at Biological Resource Division, 1201 Oakridge Drive, Suite 200, Fort Collins, CO 80525; or by email at aaron_d_smith@nps.gov. You may also contact Tracy Thompson by email at tracy_thompson@nps.gov.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Pursuant to the Animal Welfare Act (AWA), its Regulations (AWAR), and the Interagency Research Animal Committee (IRAC), any entity or institution that uses vertebrate animals for research, testing, or training purposes must have an oversight committee to evaluate all aspects of that institution's animal care and use. To be in compliance, the NPS is responsible for managing and maintaining an Institutional Animal Care and Use Committee (IACUC) that provides the experience and expertise necessary to assess and approve all research, testing, or training activities involving vertebrate animals on NPS managed lands and territories. All research, testing, or training projects involving animals taking place on NPS territories must be approved by the NPS IACUC prior to their commencement.

Principal Investigators (PI) are required to submit one of the following forms for consideration by the committee:

• IACUC General Submission (GS) Form (NPS Form 10-1301)

• IACUC Amendment Form (NPS Form 10-1301A)

• IACUC Annual Review Form (NPS Form 10-1302)

• IACUC Concurrence Form (NPS Form 10-1303)

• IACUC Field Study Form (NPS Form 10-1304)

As determined by the AWA, The NPS Institutional Animal Care and Use Committee (NPS IACUC), is a self-regulating entity that currently consists of a Chair, NPS Regional members, and two additional posts (a veterinarian to serve as the “Attending Veterinarian” and another individual to serve as the “Unaffiliated Member At-Large”).

Title of Collection: NPS Institutional Animal Care and Use Committee (IACUC) General Submission, Annual Review, Concurrence, Field Study, and Amendment Forms.

OMB Control Number: 1024-0265.

Form Numbers: NPS Forms 10-1301, 10-1301A, and 10-1302 through 10-1304.

Type of Review: Revision of a currently approved collection.

Respondents/Affected Public: State and local governments; nonprofit organizations and private businesses.

Respondent's Obligation: Mandatory.

Frequency of Collection: One time; on occasion.

Total Estimated Annual Nonhour Burden Cost: None.

Activity/requirement | Estimated number of annual responses | Completion time per response (hours) | Estimated total annual burden hours
IACUC General Submission Form (NPS Form 10-1301):
Private Businesses and nonprofit organizations | 10 | 3 | 30
State and local governments | 14 | 3 | 42
IACUC Amendment Form (NPS Form 10-1301A):
Private Businesses and nonprofit organizations | 10 | .25 | 3
State and local governments | 10 | .25 | 3
IACUC Annual Review Form (NPS Form 10-1302):
Private Businesses and nonprofit organizations | 40 | .25 | 10
State and local governments | 55 | .25 | 14
IACUC Concurrence Form (NPS Form 10-1303):
Private Businesses and nonprofit organizations | 30 | .25 | 8
State and local governments | 41 | .25 | 10
IACUC Field Study/BioBlitz Form (NPS Form 10-1304):
Private Businesses and nonprofit organizations | 10 | 1 | 10
State and local governments | 10 | 1 | 10
Total | 230 |  | 140

An agency may not conduct or sponsor and a person is not required to respond to a collection of information unless it displays a currently valid OMB control number.

The authority for this action is the Paperwork Reduction Act of 1995 (44 U.S.C. 3501 et seq.).

Phadrea Ponds,
Acting, Information Collection Clearance Officer, National Park Service.

[FR Doc. 2019-09901 Filed 5-13-19; 8:45 am]

BILLING CODE 4312-52-P